DEPARTMENT OF LABOR

Employment and Training Administration

Public Meeting of the Advisory Committee on Apprenticeship (ACA)

AGENCY: Employment and Training Administration, Labor.

ACTION: Notice of an open ACA meeting.

SUMMARY: Pursuant to section 10 of the Federal Advisory Committee Act (Pub. L. 92-463; 5 U.S.C. APP. 1), notice is hereby given of an open meeting of the Advisory Committee on Apprenticeship (ACA).

Time and Date: The meeting will begin at approximately 8:30 a.m. on Monday, September 12 and continue until approximately 3:30 p.m. The meeting will reconvene at approximately 8:30 a.m. on Tuesday, September 13, and continue until approximately 3:15 p.m. The ACA will visit and meet with apprenticeship partners on September 12 and 13 at approximately 4 p.m. at their training facilities. The final meeting day will begin at approximately 8:30 a.m. on Wednesday, September 14, and adjourn at 4 p.m.

Place: Bally's Las Vegas Hotel, 3645 Las Vegas Boulevard, South, Las Vegas, Nevada, 89109, (888) 742-9248.

The agenda is subject to change due to time constraints and priority items which may come before the Committee between the time of this publication and the scheduled date of the ACA meeting.

FOR FURTHER INFORMATION CONTACT: Mr. Anthony Swoope, Administrator, Office of Apprenticeship Training, Employer and Labor Services, Employment and Training Administration, U.S. Department of Labor, Room N-5311, 200 Constitution Avenue, NW., Washington, D.C. 20210. Telephone: (202) 693-2796, (this is not a toll-free number).

Matters to be Considered: The agenda will focus on the following topics:

• Committee Orientation.

• Characteristics of a 21st Century Apprenticeship System.

• Community Colleges and the Apprenticeship Connection.

• Jobs Corps and Apprenticeship Collaboration.

Status: Members of the public are invited to attend the proceedings. Individuals with disabilities should contact Ms. Kenya Huckaby at (202) 693-3795 no later than September 5, 2005, if special accommodations are needed.

Any member of the public who wishes to file written data or comments pertaining to the agenda may do so by sending them to Mr. Anthony Swoope, Administrator, Office of Apprenticeship Training, Employer and Labor Services, Employment and Training Administration, U.S. Department of Labor, Room N-5311, 200 Constitution Avenue NW., Washington, DC 20210. Such submissions should be sent by September 5, 2005, to be included in the record for the meeting.

Any member of the public who wishes to speak at the meeting should indicate the nature of the intended presentation and the amount of time needed by furnishing a written statement to the Designated Federal Official, Mr. Anthony Swoope, by September 5, 2005. The Chairperson will announce at the beginning of the meeting the extent to which time will permit the granting of such requests.

Signed at Washington, DC, this 23rd day of August, 2005.
Emily Stover DeRocco,
Assistant Secretary for Employment and Training Administration.

[FR Doc. E5-4708 Filed 8-26-05; 8:45 am]

BILLING CODE 4510-30-P